DEPARTMENT OF ENERGY

Federal Energy Regulatory Commission

[Docket No. PF07-13-000]

Palomar Gas Transmission, LLC; Supplemental Notice of Intent To Prepare an Environmental Impact Statement for the Proposed Palomar Gas Transmission Project and Request for Comments on Environmental Issues Related to an Alternative Pipeline Route Under Consideration

July 18, 2008.

The staff of the Federal Energy Regulatory Commission (FERC or Commission) is preparing an environmental impact statement (EIS) that will discuss the environmental impacts of the Palomar Gas Transmission Project that could result from the construction and operation of a new underground natural gas pipeline proposed by the Palomar Gas Transmission, LLC (PGT). This notice explains the scoping process that will be used to gather input from the public and interested agencies on the project. Your input will help determine which issues need to be evaluated in the EIS. Please note that the scoping period for the project will close on August 18, 2008. This is not your only opportunity to provide comments. Please refer to the Pre-filing Environmental Review Process flow chart in Appendix 1 for future public input opportunities.

An initial Notice of Intent (NOI) for this Project was issued by the FERC on October 29, 2007. Since that time, PGT has been requested by the City of Molalla to consider an alternative route south of the City's study area for potential future expansion of the urban growth boundary. This route would also facilitate a horizontal directional drilling (HDD) crossing of the Molalla River. With this NOI, we ¹ are specifically requesting comments on this alternative, referred to as the Herman Road Alternative.

¹ “We,” “us,” and “our” refer to the environmental staff of the FERC's Office of Energy Projects.

Comments may be submitted in written form or verbally. In lieu of, or in addition to, sending written comments, you are invited to attend a public scoping meeting that has been scheduled in the project area. This meeting is scheduled to be held at 7 p.m. on August 5, 2008, at the Molalla High School Commons in Molalla, Oregon. Further instructions on how to submit comments and additional details of the public scoping meetings are provided in the public participation section of this notice.

The FERC is the lead federal agency in the preparation of the EIS, and is preparing the EIS to satisfy the requirements of the National Environmental Policy Act (NEPA). The Commission will use the EIS in its decision-making processes to determine whether or not to authorize the Project.

This NOI is being sent to landowners affected by the current proposed route; landowners affected by the Herman Road Alternative; federal, state, and local government agencies; elected officials; environmental and public interest groups; Native American tribes; other interested parties; and local libraries and newspapers. We encourage government representatives to notify their constituents of this planned Project and encourage them to comment on their areas of concern.

If you are a landowner receiving this notice, you may be contacted by a PGT representative about the acquisition of an easement to construct, operate, and maintain the proposed Project facilities. Depending on the alternative selected as the certificated route, PGT would seek to negotiate a mutually acceptable agreement. However, if the Project is approved by the FERC, that approval conveys with it the right of eminent domain. Therefore, if easement negotiations fail to produce an agreement, the pipeline company could initiate condemnation proceedings in accordance with state law.

A number of fact sheets prepared by the FERC, including “An Interstate Natural Gas Facility On My Land? What Do I Need To Know?” and “Guide to Electronic Information at FERC,” are available for viewing on the FERC Internet Web site (www.ferc.gov), using the “For Citizens” link. These fact sheets address a number of typically asked questions including how to participate in the Commission's proceedings and how to access information on FERC-regulated projects in your area.

Involvement of Other Agencies

The U.S. Department of Agriculture, Forest Service, the Bureau of Land Management, and the U.S. Army Corps of Engineers have agreed to participate as cooperating agencies in the preparation of the EIS to satisfy their respective NEPA responsibilities.

Summary of the Proposed Project

PGT has announced its proposal to construct and operate a new natural gas pipeline and associated structures with a bi-directional flow capacity of 1.4 billion cubic feet per day. The project would be located in northwest Oregon and consist of a 211-mile-long, 36-inch-diameter pipeline running from near Shaniko, Wasco County, Oregon, to the Bradwood sendout pipeline in Clatsop County, Oregon. The pipeline would travel across Wasco, Clackamas, Marion, Yamhill, Washington, Columbia, and Clatsop Counties in Oregon. The pipeline would connect the existing Gas Transmission Northwest Corporation (GTN) mainline pipeline system in central Oregon to the Northwest Natural Gas Company (NW Natural) distribution system near Molalla in Clackamas County. The pipeline is also proposed to extend to other potential interconnections with NW Natural's system and to an interconnection with NorthernStar Energy, LLC's proposed Bradwood Landing pipeline in Clatsop County, Oregon. The proposed project would also include a 3.8-mile-long, 36-inch-diameter lateral pipeline ² near Molalla, Clackamas County, Oregon, to connect the PGT Project mainline to an existing NW Natural city gate. Certain associated aboveground facilities are also proposed, i.e., mainline valves spaced at intervals along the pipeline as defined by U.S. Department of Transportation regulations per the Code of Federal Regulations (CFR) 49 Part 192, at least three meter stations, and pig launcher and receiver facilities. At this time, PGT does not anticipate that compression will be required for this project.

² A lateral pipeline typically takes gas from the main system to deliver it to a customer, local distribution system, or another interstate transmission system.

More specifically, PGT proposes the following primary project components:

• A 211-mile-long, 36-inch diameter underground natural gas mainline consisting of two segments:

• The Cascades Segment: A 108.5-mile of mainline from TransCanada's GTN pipeline system northwest of Madras in Wasco County to a location southwest of Molalla in Clackamas County; and a 3.8-mile, 36-inch diameter accessory lateral pipeline, the Molalla Lateral, which will connect the main pipeline to NW Natural's distribution system;

• The Willamette Segment: A 102.5-mile segment commencing at the Molalla Lateral interconnect and terminating at the proposed connection to the Bradwood Landing sendout pipeline in Clatsop County; there is potential for additional interconnections with NW Natural along this route;

• Two meter stations, eight mainline valves, and two pig launchers/receivers on Segment I; one pig launcher/receiver on the Molalla Lateral; and one meter station, seven mainline valves, and one pig launcher/receiver on Section II;

• Temporary pipe storage and contractor yards at various locations along the pipeline for office trailers, parking, and pipe and equipment storage during construction; and

• Temporary construction roadways and short permanent roads from existing roads to meter station sites and other aboveground facilities.

In addition, PGT is evaluating an alternative pipeline route south of the City of Molalla's study area for potential future expansion of the urban growth boundary, referred to as the Herman Road Alternative. The Herman Road Alternative is approximately 5.1 miles long, or 0.2 mile longer than the corresponding current route segment and is located adjacent to an existing right-of-way (Herman Road) for about 0.9 mile. No addition valves, meter stations, or pig launchers/receivers would be required if this alternative is selected.

A map depicting PGT's proposed facilities is attached to this NOI as Appendix 2. A map depicting the Herman Road Alternative and the corresponding current route segment is attached to this NOI as Appendix 3.³

³ The appendices referenced in this notice are not being printed in the Federal Register. Copies can be obtained from the Commission's Web site (excluding maps) at the “eLibrary” link, from the Commission's Public Reference Room, or by calling (202) 502-8371. For instructions on connecting to eLibrary, refer to the end of this notice. Copies of the appendices were sent to all those receiving this notice in the mail.

The EIS Process

Although no formal application has been filed with the FERC, we have initiated our NEPA review under the FERC's Pre-Filing Process. The purpose of the Pre-Filing Process is to encourage the early involvement of interested stakeholders and to identify and resolve issues before an application is filed with the FERC.

NEPA requires the Commission to take into account the environmental impacts that could result from an action when it considers whether or not a natural gas pipeline should be approved. FERC will use the EIS to consider the environmental impacts that could result if it issues project authorizations to PGT under Sections 3 and 7 of the Natural Gas Act. NEPA also requires us to discover and address concerns the public may have about proposals. This process is referred to as “scoping.” The main goal of scoping is to focus the analysis in the EIS on the important environmental issues. With this NOI, the Commission staff is requesting public comments on the scope of the issues to be addressed in the EIS. All comments received will be considered during preparation of the EIS.

In the EIS we will discuss impacts that could occur as a result of the construction, operation, and maintenance of the proposed project under these general headings:

• Geology and soils.

• Water resources.

• Aquatic resources.

• Vegetation and wildlife.

• Threatened and endangered species.

• Land use, recreation, and visual resources.

• Cultural resources.

• Socioeconomics.

• Air quality and noise.

• Reliability and safety.

• Cumulative impacts.

In the EIS, we will also evaluate possible alternatives to the proposed project or portions of the project (including the Herman Road Alternative), and make recommendations on how to lessen or avoid impacts on affected resources.

Our independent analysis of the issues will be included in a draft EIS. The draft EIS will be mailed to federal, state, and local government agencies; elected officials; affected landowners; environmental and public interest groups; Indian tribes and regional Native American organizations; commentors; other interested parties; local libraries and newspapers; and FERC's official service list for this proceeding. There will be, at a minimum, a 45-day comment period allotted for review of the draft EIS. We will consider all comments on the draft EIS and revise the document, if necessary, before issuing a final EIS. We will consider all comments on the final EIS before we make our recommendations to the Commission. To ensure that your comments are considered, please follow the instructions in the Public Participation section of this NOI.

Public Participation

You can make a difference by providing us with your specific comments or concerns about the Herman Road Alternative. Your comments should focus on the potential environmental effects, reasonable alternatives, and measures to avoid or lessen the environmental impact of the Herman Road Alternative. The more specific your comments, the more useful they will be. To ensure that your comments are timely and properly recorded, please send in you comments so that they will be received in Washington, DC, on or before August 15, 2008.

For your convenience, there are three methods in which you can use to submit your comments to the Commission. In all instances please reference the project docket number Docket No. PF07-13-000 with your submission. The docket number can be found on the front of this notice. The Commission encourages electronic filing of comments and has dedicated eFiling expert staff available to assist you at 202-502-8258 or efiling@ferc.gov.

1. You may file your comments electronically by using the Quick Comment feature, which is located on the Commission's internet Web site at http://www.ferc.gov under the link to Documents and Filings. A Quick Comment is an easy method for interested persons to submit text-only comments on a project;

2. You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

3. You may file your comments via mail to the Commission by sending an original and two copies of your letter to: Kimberly D. Bose, Secretary, Federal Energy Regulatory Commission, 888 First St., NE., Room 1A, Washington, DC 20426;

• Label one copy of your comments for the attention of OEP/DG2E/Gas Branch, PJ-11.2.

• Reference Docket No. PF07-13-000 on the original and both copies.

The scoping meeting is scheduled to be held at 7 p.m. on August 5, 2008 at: Molalla High School Commons, 357 Frances Street, Molalla, OR 97083.

Environmental Mailing List

Everyone who provides comments on this Supplemental NOI will be retained on the mailing list. If you do not want to send comments at this time but still want to stay informed and receive copies of the draft and final EISs, you must return the Mailing List Retention Form (Appendix 4). Also, indicate on the form your preference for receiving a paper version of the EIS in lieu of an electronic version of the EIS on CD-ROM. If you have previously submitted comments or returned a Mailing List Retention Form you are already on our mailing list and do not need to resubmit comments or a Mailing List Retention Form.

Additional Information

Once PGT formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Additional information about the Project is available from the Commission's Office of External Affairs at 1-866-208 FERC (3372) or on the FERC Internet Web site (http://www.ferc.gov) using the “eLibrary” link. Click on the eLibrary link, click on “General Search,” and enter the docket number excluding the last three digits in the Docket Number field (i.e., PF07-15). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as Orders, notices, and rulemakings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, PGT has established a Web site for this project at http://www.palomargas.com/project.html. The Web site includes a project overview, timeline, safety and environmental information, and answers to frequently asked questions. You can also request additional information by e-mailing PGT directly at info@palomargas.com or writing to: Palomar Gas Transmission, 1400 SW. Fifth Avenue, Suite 900, Portland, Oregon 97225.

Kimberly D. Bose,
Secretary.

[FR Doc. E8-17302 Filed 7-28-08; 8:45 am]

BILLING CODE 6717-01-P